DEPARTMENT OF COMMERCE

International Trade Administration

[A-552-802]

Certain Frozen Warmwater Shrimp From the Socialist Republic of Vietnam: Preliminary Results, Notice of Intent To Rescind, in Part, and Final Rescission, in Part, of Antidumping Duty Administrative Review; 2023-2024

AGENCY: Enforcement and Compliance, International Trade Administration, Department of Commerce.

SUMMARY: The U.S. Department of Commerce (Commerce) preliminarily determines that sales of certain frozen warmwater shrimp (shrimp) from the Socialist Republic of Vietnam (Vietnam) by Soc Trang Seafood Joint Stock Company (STAPIMEX) were made at prices below normal value (NV), that sales of shrimp from Vietnam by Thong Thuan Company Limited and Thong Thuan Cam Ranh Seafood Joint Stock Company (collectively, Thong Thuan/TTCR) were not made at prices below NV, and that 24 exporters are eligible for separate rates. Additionally, Commerce is rescinding the review with respect to certain exporters that had no reviewable entries of subject merchandise during the period of review (POR), February 1, 2023, through January 31, 2024. Interested parties are invited to comment on these preliminary results.

DATES: Applicable June 11, 2025.

FOR FURTHER INFORMATION CONTACT: Jonathan Schueler, AD/CVD Operations, Office VIII, Enforcement and Compliance, International Trade Administration, U.S. Department of Commerce, 1401 Constitution Avenue NW, Washington, DC 20230; telephone: (202) 482-9175.

SUPPLEMENTARY INFORMATION:

Background

On February 1, 2005, Commerce published in the Federal Register the antidumping duty order on shrimp from Vietnam.¹ On February 2, 2024, Commerce published a notice of opportunity to request an administrative review of the antidumping duty Order on certain frozen warmwater shrimp from Vietnam.² Commerce received timely requests for an administrative review from the Ad Hoc Shrimp Trade Action Committee (AHSTAC) (the petitioner), the American Shrimp Processors Association (ASPA) (domestic processors), the U.S. Shrimpers Coalition (USSC) (a domestic interested party), and numerous Vietnamese companies.³ On April 9, 2024, Commerce initiated an administrative review of the Order for the POR February 1, 2023, through January 31, 2024, covering 202 companies, including multiple companies with name variations/abbreviations, in accordance with section 751(a) of the Tariff Act of 1930, as amended (the Act) and 19 CFR 351.221(c)(1)(i).⁴

¹ See Notice of Amended Final Determination of Sales at Less Than Fair Value and Antidumping Duty Order: Certain Frozen Warmwater Shrimp from the Socialist Republic of Vietnam, 70 FR 5152 (February 1, 2005) (Order).

² See Antidumping or Countervailing Duty Order, Finding, or Suspended Investigation; Opportunity to Request Administrative Review and Join Annual Inquiry Service List, 89 FR 7366 (February 2, 2024).

³ See AHSTAC's Letter, “Request for Administrative Reviews,” dated February 28, 2024; see also ASPA's Letter, “American Shrimp Processors Association's Request for Administrative Reviews,” dated February 29, 2024; USSC's Letter, “Request for Administrative Review,” dated February 29, 2024; Bac Lieu Fisheries Joint Stock Company, et. al's Letter, “Request for Administrative Review (02/01/23-01/31/24),” dated February 29, 2024; and Ngoc Tri Seafood Joint Stock Company et. al.'s Letter, “Request for Administrative Review,” dated February 27, 2024.

⁴ See Initiation of Antidumping and Countervailing Duty Administrative Reviews, 89 FR 24780 (April 9, 2024) (Initiation Notice). The Initiation Notice lists 203 companies, however, we inadvertently listed Soc Trang Seafood Joint Stock Company twice, thus this administrative review was initiated with respect to only 202 distinct companies.

Between May 3 and May 16, 2024, 24 companies filed timely separate rate applications (SRAs) or separate rate certifications (SRCs). On April 18, 2024, Commerce released U.S. Customs and Border Protection (CBP) entry data in order to select respondents for individual examination.⁵ In April and May 2024, Commerce received comments regarding respondent selection from AHSTAC, STAPIMEX, and rebuttal comments from ASPA.⁶ On July 18, 2024, Commerce selected STAPIMEX and Thong Thuan as the mandatory respondents in this administrative review.⁷

⁵ See Memorandum, “Customs Data of U.S. Imports of Certain Frozen Warmwater Shrimp for Respondent Selection,” dated April 18, 2024 (CBP Data Memorandum).

⁶ See AHSTAC's Letter, “Domestic Producers' Comments Regarding Respondent Selection,” dated April 25, 2024 (Petitioner's Comments); see also Stapimex's Letter, “Comments by Soc Trang Seafood Joint Stock Company (Stapimex) Regarding CBP Import Data,” dated April 24, 2024 (Stapimex's Comments); ASPA's Letter, “Rebuttal Comments on Respondent Selection,” dated May 2, 2024 (ASPA's Rebuttal Comments).

⁷ See Memorandum, “Respondent Selection,” dated July 18, 2024.

For a complete description of the events that followed the initiation of this review, see the Preliminary Decision Memorandum.⁸ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Memorandum, “Decision Memorandum for the Preliminary Results of the Antidumping Duty Administrative Review of Certain Frozen Warmwater Shrimp from the Socialist Republic of Vietnam; 2023-2024,” dated concurrently with this notice (Preliminary Decision Memorandum).

Scope of the Order

The merchandise subject to the Order is certain frozen warmwater shrimp. For a complete description of the scope of the Order, see the Preliminary Decision Memorandum.

Rescission of Administrative Review, in Part

Pursuant to 19 CFR 351.213(d)(3), when there are no reviewable entries of subject merchandise during the POR subject to the antidumping duty order for which liquidation is suspended, Commerce may rescind an administrative review, in whole or only with respect to a particular exporter or producer. At the end of the administrative review, any suspended entries are liquidated at the assessment rate computed for the review period. Therefore, for an administrative review to be conducted, there must be at least one reviewable, suspended entry that Commerce can instruct U.S. Customs and Border Protection to liquidate at the newly calculated assessment rate. On April 24, 2025, Commerce notified all interested parties of its intent to rescind this review with respect to 11 companies because those companies had no reviewable, suspended entries of subject merchandise, and we invited parties to comment.⁹

⁹ See Memorandum, “Notice of Intent to Rescind Review, In Part,” dated April 24, 2025 (Intent to Rescind Memorandum).

We received comments regarding our Intent to Rescind Memorandum on behalf of Bac Lieu Fisheries Joint Stock Company, Viet Foods Co., Ltd., and Trang Khanh Seafood Co., Ltd.¹⁰ As discussed in the Preliminary Decision Memorandum, we disagree with Bac Lieu Fisheries Joint Stock Company and Viet Foods Co., Ltd., that we should also rescind the review with respect to certain name variations because those name variations have not been previously granted separate rate status. Thus, we have not rescinded the review on those specific name variations and have included them in the Vietnam-wide entity. However, we agree with Trang Khanh Seafood Co., Ltd's request and we are notifying interested parties of our intent to rescind the review with respect to Trang Khanh Seafood Co., Ltd., as described below.

¹⁰ See Bac Lieu Fisheries Joint Stock Company et.al's Letter, “Comments on Notice of Intent to Rescind Review, in Part,” dated May 2, 2025

Accordingly, in the absence of suspended entries of subject merchandise during the POR for 11 companies/entities that currently have a separate rate for which this review was initiated, we are hereby rescinding this administrative review, in part, with respect to these companies, in accordance with 19 CFR 351.213(d)(3).¹¹

¹¹ See Appendix IV for a list of these companies.

Notice of Intent To Rescind Administrative Review, in Part

As noted above, we are hereby notifying all interested parties of our intent to rescind this review with respect to Trang Khanh Seafood Co., Ltd. Interested parties are invited to comment on this preliminary notice of intent to rescind in their case briefs submitted to Commerce by the deadline established in the “Public Comment” section below. For additional information, see the Preliminary Decision Memorandum..

Separate Rates

Commerce preliminarily determines that information placed on the record by the two mandatory respondents, STAPIMEX, Thong Thuan/TTCR,¹² and 22 additional companies seeking a separate rate ¹³ demonstrate that these companies are preliminarily entitled to separate rate status. For additional information, see the Preliminary Decision Memorandum.

¹² We have determined that it is appropriate to treat affiliates Thong Thuan and TTCR as a single entity for purposes of this administrative review. For further discussion, see the Preliminary Decision Memorandum.

¹³ See Appendix II for a list of these companies.

Vietnam-Wide Entity

Commerce finds that 146 companies under review have not established eligibility for a separate rate and are considered to be part of the Vietnam-wide entity for these preliminary results.¹⁴ Commerce's policy regarding conditional review of the Vietnam-wide entity applies to this administrative review.¹⁵ Under this policy, the Vietnam-wide entity will not be under review unless a party specifically requests, or Commerce self-initiates, a review of the entity. Because no party requested a review of the Vietnam-wide entity, the entity is not under review and the entity's rate of 25.76 percent is not subject to change.

¹⁴ See Appendix III for a list of these companies.

¹⁵ See Antidumping Proceedings: Announcement of Change in Department Practice for Respondent Selection in Antidumping Duty Proceedings and Conditional Review of the Nonmarket Economy Entity in NME Antidumping Duty Proceedings, 78 FR 65963 (November 4, 2013).

Methodology

Commerce is conducting this review in accordance with section 751(a)(1)(B) of the Act. We have calculated export price and constructed export price in accordance with section 772 of the Act. Because Vietnam is a non-market economy country within the meaning of section 771(18) of the Act, we have calculated NV in accordance with section 773(c) of the Act. For a full description of the methodology underlying our conclusions, see the Preliminary Decision Memorandum.

Separate Rate Calculation

The Act and Commerce's regulations do not address the establishment of a rate to apply to exporters not selected for individual examination when Commerce limits its examination in an administrative review pursuant to section 777A(c)(2) of the Act. Generally, Commerce looks to section 735(c)(5) of the Act, which provides instructions for calculating the all-others rate in an investigation, for guidance when calculating the rate for respondents that are not individually examined in an administrative review. Section 735(c)(5)(A) of the Act provides that the all-others rate should be calculated by averaging the weighted-average dumping margins calculated for individually-examined respondents, excluding dumping margins that are zero, de minimis, or based entirely on facts available.¹⁶

¹⁶ See Statement of Administrative Action Accompanying the Uruguay Round Agreements Act, H.R. Doc. 103-316, Vol. 1 (1994) (SAA), at 873.

For these preliminary results, STAPIMEX is the only respondent for which Commerce calculated an individual estimated weighted-average dumping margin that is not zero, de minimis, or based entirely on facts otherwise available. Accordingly, we assigned exporters that we did not individually examine and that are eligible for a separate rate a dumping margin equal to STAPIMEX's dumping margin, consistent with Commerce's practice and section 735(c)(5)(A) of the Act.

Preliminary Results of Review

Commerce preliminarily determines that the following estimated weighted-average dumping margins exist for the period February 1, 2023, through January 31, 2024:

¹⁷ Commerce has preliminarily determined that these two entities are affiliated within the meaning of section 771(33) of the Act and comprise a single entity pursuant to 19 CFR 351.401(f).

¹⁸ See Appendix II.

Exporter | Weighted-average dumping margin (percent)
Soc Trang Seafood Joint Stock Company; STAPIMEX | 35.29
Thong Thuan Company Limited; Thong Thuan Cam Ranh Seafood Joint Stock Company ¹⁷ | 0.00
Companies Receiving a Separate Rate ¹⁸ | 35.29

Disclosure

Commerce intends to disclose its calculations and analysis performed to interested parties for these preliminary results within five days of any public announcement or, if there is no public announcement, within five days of the date of publication of this notice in accordance with 19 CFR 351.224(b).

Verification

On July 17, 2024, ASPA, requested that Commerce conduct verification of the mandatory respondents.¹⁹ Accordingly, as provided in section 782(i)(3) of the Act, Commerce intends to verify the information it will rely on in making its final results of review.

¹⁹ See ASPA's Letter, “Request for Verification,” dated July 17, 2024.

Public Comment

Case briefs or other written comments may be submitted to the Assistant Secretary for Enforcement and Compliance. A timeline for the submission of case briefs and written comments will be provided to interested parties at a later date. Rebuttal briefs, limited to issues raised in the case briefs, may be filed not later than five days after the date for filing case briefs.²⁰ Interested parties who submit case briefs or rebuttal briefs in this proceeding must submit: (1) a table of contents listing each issue; and (2) a table of authorities.²¹ Case and rebuttal briefs should be filed electronically via ACCESS.

²⁰ See 19 CFR 351.309(d); see also Administrative Protective Order, Service, and Other Procedures in Antidumping and Countervailing Duty Proceedings, 88 FR 67069, 67077 (September 29, 2023) (APO and Service Final Rule).

²¹ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²² Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²³

²² We use the term “issue” here to describe an argument that Commerce would normally address in a comment of the Issues and Decision Memorandum.

²³ See APO and Service Final Rule.

Pursuant to 19 CFR 351.310(c), interested parties who wish to request a hearing must submit a written request to the Assistant Secretary for Enforcement and Compliance, filed electronically via ACCESS. Requests should contain: (1) the party's name, address, and telephone number; (2) the number of participants and whether any of the participants are foreign nationals; and (3) a list of issues to be discussed. Issues raised in the hearing will be limited to those raised in the respective case briefs. If a request for a hearing is made, Commerce intends to hold the hearing at a date and time to be determined. Parties should confirm the date and time of the hearing two days before the scheduled date. An electronically filed hearing request must be received successfully in its entirety by Commerce's electronic records system, ACCESS, by 5 p.m. Eastern Time within 30 days after the date of publication of this notice.

Assessment Rates

Pursuant to section 751(a)(2)(A) of the Act and 19 CFR 351.212(b)(1), Commerce will determine, and CBP shall assess, antidumping duties on all appropriate entries of subject merchandise covered by this review. For the 11 companies identified in Appendix IV with respect to which Commerce is rescinding this administrative review, Commerce intends to issue assessment instructions to CBP no earlier than 35 days after the date of publication of this notice in the Federal Register. For the remaining companies under review, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the final results, if we continue to treat the 146 companies identified in Appendix III as part of the Vietnam-wide entity, we will instruct CBP to apply an ad valorem assessment rate of 25.76 percent to all entries of subject merchandise during the POR which were produced and/or exported by those companies. The final results of this review shall be the basis for the assessment of antidumping duties on entries of merchandise covered by the final results of this review and for future deposits of estimated duties, where applicable.

Cash Deposit Requirements

These cash deposit requirements, when imposed, shall remain in effect until further notice. The following cash deposit requirements will be effective for all shipments of the subject merchandise entered, or withdrawn from warehouse, for consumption on or after the publication date of the final results of this administrative review, as provided by section 751(a)(2)(C) of the Act: (1) for the exporters listed above, the cash deposit rate will be equal to the weighted-average dumping margins established in the final results of this review, except if the rate is de minimis, in which case the cash deposit rate will be zero; (2) for previously-examined Vietnamese and non-Vietnamese exporters not listed above that at the time of entry are eligible for a separate rate based on a prior completed segment of this proceeding, the cash deposit rate will continue to the be the existing exporter-specific cash deposit rate; (3) for all non-Vietnamese exporters of subject merchandise which at the time of entry do not have a separate rate, the cash deposit rate will be the rate applicable to the Vietnamese exporter that supplied the non-Vietnamese exporter; and (4) for all Vietnamese exporters of subject merchandise that have not been found to be entitled to a separate rate at the time of entry, the cash deposit rate will be that for the Vietnam-wide entity (i.e., 25.76 percent ad valorem). These cash deposit requirements, when imposed, shall remain in effect until further notice.

Final Results of Review

Unless otherwise extended, Commerce intends to issue the final results of this administrative review, including the results of its analysis of issues raised by the parties in the written comments, within 120 days of publication of these preliminary results in the Federal Register, pursuant to section 751(a)(3)(A) of the Act and 19 CFR 351.213(h)(1).

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties. This determination is issued and published in accordance with sections 751(a)(1)(B) and 777(i)(1) of the Act and 19 CFR 351.221(b)(4).

Notification to Interested Parties

These preliminary results are issued and published in accordance with sections 751(a)(1)(B) and 777(i)(1) of the Act and 19 CFR 351.221(b)(4).

Dated: June 5, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Intent to Rescind Review, In Part

V. Application Of Facts Available And Use Of Adverse Inference

VI. Discussion of the Methodology

VII. Adjustment Under Section 777(A)(F) of the Act

VIII. Recommendation

Appendix II

Companies Eligible for Separate Rate Status ²⁴

²⁴ We have included in this list certain name variations that are included in the SRA/SRC, and, thus are included in the separate rate, but were not listed in the Initiation Notice.

1. Camau Seafood Processing and Service Joint-Stock Corporation; CASES; Camau Seafood Processing and Service Joint Stock Corporation

2. C.P. Vietnam Corporation

3. Cantho Import Export Fishery Limited Company; CAFISH

4. Camimex Group Joint Stock Company; Camimex Group

5. Cuulong Seaproducts Company; Cuulong Seapro

6. Sao Ta Foods Joint Stock Company; FIMEX VN/Sao Ta Seafood Factory ²⁵

²⁵ As noted in the Initiation Notice, Commerce has previously determined that these two entities are affiliated within the meaning of section 771(33) of the Act and comprise a single entity pursuant to 19 CFR 351.401(f). See Certain Frozen Warmwater Shrimp from the Socialist Republic of Vietnam: Final Results of Antidumping Duty Administrative Review, 2017-2018, 84 FR 44859 (August 27, 2019).

7. Frozen Seafoods Factory No. 32

8. Hai Viet Corporation; HAVICO

9. Kim Anh Company Limited; Kim Anh Co., Ltd.

10. Minh Hai Jostoco; Minh Hai Export Frozen Seafood Processing Joint-Stock Company

11. Ngoc Tri Seafood Joint Stock Company; Ngoc Tri Seafood Company

12. Nha Trang Seafoods F89 Joint Stock Company; Nha Trang Seaproduct Company; NT Seafoods Corporation; NTSF Seafoods Joint Stock Company; Nha Trang Seafoods Group ²⁶

²⁶ As noted in the Initiation Notice, Commerce has previously determined that these entities are affiliated within the meaning of section 771(33) of the Act and comprise a single entity pursuant to 19 CFR 351.401(f). See Certain Frozen Warmwater Shrimp from the Socialist Republic of Vietnam: Preliminary Results, Partial Rescission, and Request for Revocation, In Part, of the Fifth Administrative Review, 76 FR 12054, 12056 (March 4, 2011), unchanged in Certain Frozen Warmwater Shrimp from the Socialist Republic of Vietnam: Final Results and Final Partial Rescission of Antidumping Duty Administrative Review, 76 FR 56158 (September 12, 2011).

13. Q N L Company Limited; QNL Company Limited

14. Minh Hai Joint-Stock Seafoods Processing Company; Sea Minh Hai; Seaprodex Minh Hai

15. Seaprimexco Vietnam; Seaprimexco

16. Soc Trang Seafood Joint Stock Company; STAPIMEX

17. Tai Kim Anh Seafood Joint Stock Corporation; TAIKA Seafood Corporation

18. Thong Thuan Company Limited; Thong Thuan Cam Ranh Seafood Joint Stock Company;

19. Thuan Phuoc Seafoods and Trading Corporation; Thuan Phuoc Corp

20. Trong Nhan Seafood Co., Ltd.; Trong Nhan Seafood

21. UTXI Aquatic Products Processing Corporation; UTXICO

22. Viet I-Mei Frozen Foods Co., Ltd.; Viet I-Mei

23. Vietnam Clean Seafood Corporation; Viet Nam Clean Seafood Corporation; Vina Cleanfood

24. Vietnam Fish One Co., Ltd.; Viet Hai Seafood Co., Ltd

Appendix III

Companies Under Review Determined to Be Part of the Vietnam-wide Entity ²⁷

²⁷ See Memorandum, “Names Not Granted Separate Rate Status at the Preliminary Results,” dated concurrently with this Notice.

1. AFoods

2. Amanda Seafood Co., Ltd.

3. An Nguyen Investment Production and Group

4. Anh Khoa Seafood

5. Anh Minh Quan Corp.

6. APT Co.

7. Au Vung One Seafood

8. Bac Lieu Fis

9. Baclieufis

10. Bentre Forestry and Aquaproduct Import Export Joint Stock Company

11. Bentre Seafood Joint Stock Company

12. Beseaco

13. Bien Dong Seafood Co., Ltd.

14. Binh Dong Fisheries Joint Stock Company

15. Binh Thuan Import-Export Joint Stock Company

16. Blue Bay Seafood Co., Ltd.

17. Ca Mau Seafood Processing and Service Joint Stock Corporation

18. Ca Mau Frozen Seafood Processing Import Export Corporation

19. Ca Mau Seafood Joint Stock Company

20. Cadovimex

21. Cadovimex II Seafood Import Export and Processing Joint Stock Company

22. Cadovimex Seafood Import-Export and Processing Joint Stock Company

23. Camimex

24. Camimex Foods Joint Stock Company

25. Caseamex

26. CJ Cau Tre Foods Joint Stock Company

27. Coastal Fisheries Development Corporation

28. COFIDEC

29. Cuu Long Seapro

30. Dai Phat Tien Seafood Co., Ltd.

31. Danang Seafood Import Export

32. Danang Seaproducts Import-Export Corporation

33. Dong Hai Seafood Limited Company

34. Dong Phuong Seafood Co., Ltd.

35. Duc Cuong Seafood Trading Co., Ltd.

36. Duong Hung Seafood

37. FAQUIMEX

38. FFC

39. Fine Foods Company

40. Gallant Dachan Seafood Co., Ltd.

41. Gallant Ocean (Vietnam) Co. Ltd.

42. Gallant Ocean (Vietnam) Joint Stock Company

43. GN Foods Joint Stock Company

44. Go Dang Joint Stock Company

45. GODACO Seafood

46. Green Farms Seafood Joint Stock Company

47. HaiViet Corporation

48. Hanh An Trading Service Co., Ltd.

49. Hoang Anh Fisheries Trading Company Limited

50. Hoang Phong Seafood Co.

51. Hong Ngoc Seafood Co., Ltd.

52. Hung Bang Company Limited

53. Hung Dong Investment Service Trading Co., Ltd.

54. HungHau Agricultural Joint Stock Company

55. INCOMFISH

56. Investment Commerce Fisheries Corporation

57. JK Fish Co., Ltd.

58. Khang An Foods Joint Stock Company

59. Khanh Hoa Seafoods Exporting Company

60. KHASPEXCO

61. Long Toan Frozen Aquatic Products Joint Stock Company

62. MC Seafood

63. Minh Bach Seafood Company Limited

64. Minh Cuong Seafood Import Export Processing Joint Stock Company

65. Minh Hai Joint Stock Seafoods

66. Minh Phat Seafood Company Limited ²⁸

²⁸ Shrimp produced and exported by Minh Phat Seafood Company Limited were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this administrative review covers this exporter only with respect to subject merchandise produced by another entity.

67. Minh Phu Hau Giang Seafood ²⁹

²⁹ Shrimp produced and exported by Minh Phu Hau Giang Seafood were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this administrative review covers this exporter only with respect to subject merchandise produced by another entity.

68. Minh Phu Seafood Corporation ³⁰

³⁰ Shrimp produced and exported by Minh Phu Seafood Corporation were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this administrative review covers this exporter only with respect to subject merchandise produced by another entity.

69. Minh Qui Seafood Co., Ltd.³¹

³¹ Shrimp produced and exported by Minh Qui Seafood Co., Ltd. were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this administrative review covers this exporter only with respect to subject merchandise produced by another entity.

70. My Son Seafoods Factory

71. Nam Hai Foodstuff and Export Company Ltd.

72. Nam Phuong Foods Import Export Company Limited

73. Nam Viet Seafood Import Export Joint Stock Company

74. Namcan Seaproducts Import Export Joint Stock Company

75. NAVIMEXCO

76. New Generation Seafood Joint Stock Company

77. New Wind Seafood Company Limited

78. Ngoc Tri

79. Ngoc Trinh Bac Lieu Seafood Co., Ltd.

80. Nguyen Chi Aquatic Product Trading Company Limited

81. Nhat Duc Co., Ltd.

82. Nigico Co., Ltd.

83. Phuong Nam Foodstuff Corp.

84. QAIMEXCO

85. QNL One Member Company

86. Quang Minh Seafood Co., Ltd

87. Quoc Ai Seafood Processing Import Export Co., Ltd.

88. Quoc Toan PTE

89. Quoc Toan Seafood Processing Factory

90. Quy Nhon Frozen Seafoods Joint Stock Company

91. Safe And Fresh Aquatic Products Joint Stock Company

92. Saigon Aquatic Product Trading Joint Stock Company

93. Saigon Food Joint Stock Company

94. Saota Seafood Factory

95. SEADANANG

96. Seafood Direct 2012 One Member Limited

97. Seafood Joint Stock Company No. 4

98. Seafood Travel Construction Import Export Joint Stock Company

99. SeafoodDirect2012 One Member Limited Liability Company

100. Seanamico

101. Seaprodex Min Hai

102. Seaprodex Minh Hai Factory No. 69

103. Seaprodex Minh Hai Workshop 1

104. Seaprodex Minh Hai-Factory No. 78

105. Seaproducts Joint Stock Company

106. Seaproducts Joint Stock Company No. 5

107. Seaspimex Vietnam

108. Simmy Seafood Company Limited

109. South Ha Tinh Seaproducts Import-Export Joint Stock Company

110. South Vina Shrimp

111. Southern Shrimp Joint Stock Company

112. Special Aquatic Products Joint Stock Company

113. SVS

114. T & P Seafood Company Limited

115. T&T

116. T&T Cam Ranh

117. Tai Nguyen Seafood Co., Ltd.

118. Tan Phong Phu Seafood Co., Ltd.

119. Tan Thanh Loi Frozen Food Co., Ltd.

120. Tay Do Seafood Enterprise

121. THADIMEXCO

122. Thai Hoa Foods Joint Stock Company

123. Thai Minh Long Seafood Company Limited

124. Thaimex

125. Thanh Doan Fisheries Import-Export Joint Stock Company

126. Thanh Doan Sea Products Import & Export Processing Joint-Stock Company

127. Thanh Doan Seafood Import Export Trading Joint-Stock Company

128. The Light Seafood Company Limited

129. Thien Phu Export Seafood

130. Thinh Hung Co., Ltd.

131. Thinh Phu Aquatic Products Trading Co., Ltd.

132. Thuan Thien Producing Trading Ltd. Co.

133. TPP Co. Ltd.

134. Trang Corporation (Vietnam)

135. Trung Son Seafood Processing Joint Stock Company

136. VAFCO

137. Van Duc Food Company Limited

138. Viet Asia Foods Company Limited

139. Viet Phu Foods and Fish Corp.

140. Viet Shrimp Corporation

141. Vietrosco

142. VIFAFOOD

143. Vinh Hoan Corp.

144. Vinh Phat Food Joint Stock Company

145. VIPAFOOD

146. XNK Thinh Phat Processing Company

Appendix IV

Companies With Respect to Which Commerce Is Rescinding the Review

1. Bac Lieu Fisheries Joint Stock Company

2. BIM Foods Joint Stock Company

3. Cafatex Fishery Joint Stock Corporation

4. Khanh Sung Co., Ltd.

5. Quoc Viet Seaproducts Processing Trading and Import-Export Co., Ltd.

6. Seafoods and Foodstuff Factory

7. Seavina

8. Seavina Joint Stock Company

9. Tacvan Frozen Seafood Processing Export Company

10. Tacvan Seafoods Company

11. Viet Foods Co., Ltd.

[FR Doc. 2025-10636 Filed 6-10-25; 8:45 am]

BILLING CODE 3510-DS-P